DEPARTMENT OF THE INTERIOR

National Park Service

Notice of Realty Action—Proposed Exchange of Federally Owned Land for Privately Owned Land, Both Within Kane County, UT, Glen Canyon National Recreation Area

SUMMARY: Pursuant to the authority contained in the Act of July 1, 2003, (Pub. L. 108-43, 117 Stat. 841), the Secretary of the Interior has been authorized to acquire certain lands by exchange and is authorized, upon completion of said exchange, to revise the boundaries of Glen Canyon National Recreation Area accordingly.

DATES: The effective date for this notice shall be the date of the Federal Register publication in which this notice appears.

FOR FURTHER INFORMATION CONTACT: Realty Officer, Land Resources Program Center, Intermountain Region, P.O. Box 728, Santa Fe, New Mexico, 87504-9728, 505-988-6810.

SUPPLEMENTARY INFORMATION: The above-cited Act authorizes the Secretary of the Interior to exchange certain privately owned lands adjacent to Glen Canyon National Recreation Area for federally owned lands within the recreation area boundary. Upon completion of this exchange, the boundaries of Glen Canyon National Recreation Area will be revised to add the parcel now adjacent to the recreation area and to exclude the parcel now inside the recreation area. Land added to the recreation area shall be administered as part of the park in accordance with the laws and regulations applicable thereto. The lands to be exchanged are generally described as follows:

Federally Owned Parcel

Tract No. 06-128, a parcel of land in Section 5, Township 44 South, Range 3 East, Salt Lake Base and Meridian, containing 312.50 acres, more or less.

Privately Owned Parcel

Tract No. 06-127, a parcel of land in Section 32, Township 43 South, Range 3 East, Salt Lake Base and Meridian, containing 122.93 acres, more or less.

The value of the properties exchanged shall be determined by a current fair market value appraisal. If they are not approximately equal, the following applies: In the event the federally owned property is higher in value than the privately owned property, the values shall be equalized by cash payment in order to complete the exchange. If the privately owned property is higher in value than the federally owned property, no cash payment to equalize values shall be made.

For a period of 45 calendar days from the date of this notice, interested parties may submit comments to the above address. Adverse comments will be evaluated, and this action may be modified or vacated accordingly. In the absence of any action to modify or vacate, this realty action will become the final determination of the Department of the Interior.

Dated: October 7, 2003.
Stephen P. Martin,
Regional Director, Intermountain Region, National Park Service.

[FR Doc. 03-29500 Filed 11-25-03; 8:45 am]

BILLING CODE 4312-ED-M